DEPARTMENT OF THE INTERIOR

Fish and Wildlife Service

[FWS-R8-ES-2014-N240; FF08E00000-FXES11120800000-145]

Draft Environmental Assessment and Proposed Wright Solar Park Multi-Species Habitat Conservation Plan, Merced County, California

AGENCY: Fish and Wildlife Service, Interior.

ACTION: Notice of availability and request for comment; permit application, draft environmental assessment, proposed habitat conservation plan.

SUMMARY: This notice advises the public that we, the U.S. Fish and Wildlife Service (Service), have prepared a draft environmental assessment (EA) under the National Environmental Policy Act of 1969, as amended (NEPA), in response to an application from Wright Solar Park, LLC (the applicant) for an incidental take permit (ITP) pursuant to the Endangered Species Act of 1973, as amended (Act). The applicant has prepared the draft Wright Solar Park Habitat Conservation Plan (HCP) to describe and implement a conservation plan that will minimize and mitigate environmental effects associated with the construction, operation, maintenance, and decommissioning of an up-to-200-megawatt photovoltaic power generating facility and implementation of conservation actions associated with the Habitat Conservation Plan in Merced County, California. We also announce a 60-day public comment period on the permit application, including the draft EA and the proposed HCP. We request data, comments, new information, or suggestions from the public, other concerned governmental agencies, the scientific community, Tribes, industry, or any other interested party.

DATES: To ensure consideration, please send your written comments by March 16, 2015.

ADDRESSES: Please address written comments to Mike Thomas, Chief, Conservation Planning Division, Sacramento Fish and Wildlife Office, 2800 Cottage Way, W-2605, Sacramento, CA 95825. Alternatively, you may send comments by facsimile to (916) 414-6713.

FOR FURTHER INFORMATION CONTACT: Mike Thomas, Chief, Conservation Planning Division, or Eric Tattersall, Deputy Assistant Field Supervisor, at the address in ADDRESSES or at (916) 414-6600 (telephone). If you use a telecommunications device for the deaf, please call the Federal Information Relay Service at (800) 877-8339.

SUPPLEMENTARY INFORMATION: This notice advises the public that we, the U.S. Fish and Wildlife Service (Service), have prepared a draft environmental assessment (EA) under the National Environmental Policy Act of 1969, as amended (NEPA), in response to an application from Wright Solar Park, LLC (the applicant) for an incidental take permit (ITP) pursuant to the Endangered Species Act of 1973, as amended (Act). The application addresses the proposed incidental take (take) of three animal species proposed as “covered species” within a 5,181-acre permit area during a proposed permit term of 40 years. The applicant has prepared the draft Wright Solar Park Habitat Conservation Plan (HCP) to describe and implement a conservation plan that will minimize and mitigate environmental effects associated with the construction, operation, maintenance, and decommissioning of an up-to-200-megawatt photovoltaic power generating facility and implementation of conservation actions associated with the Habitat Conservation Plan in Merced County, California. We also announce a 90-day public comment period on the permit application, including the draft EA and the proposed HCP. We request data, comments, new information, or suggestions from the public, other concerned governmental agencies, the scientific community, Tribes, industry, or any other interested party.

We publish this notice under the National Environmental Policy Act of 1969, as amended (42 U.S.C. 4321-4347 et seq.; NEPA), and its implementing regulations in the Code of Federal Regulations (CFR) at 40 CFR parts 1500-1508, as well as in compliance with section 10(c) of the Endangered Species Act (16 U.S.C. 1531-1544 et seq.; Act).

Availability of Documents

You may obtain copies of the draft EA and the draft HCP from the individuals in FOR FURTHER INFORMATION CONTACT, or from the Sacramento Fish and Wildlife Office Web site at http://www.fws.gov/sacramento. Copies of these documents are also available for public inspection, by appointment, during regular business hours, at the Sacramento Fish and Wildlife Office (see ADDRESSES).

Background Information

Section 9 of the Act (16 U.S.C. 1531-1544 et seq.) and Federal regulations (50 CFR part 17) prohibit the taking of fish and wildlife species listed as endangered or threatened under section 4 of the Act. “Take” of federally listed fish or wildlife is defined under the Act as to “harass, harm, pursue, hunt, shoot, wound, kill, trap, capture, or collect, or attempt to engage in such conduct” (16 U.S.C. 1532(19). The term “harm” is defined in the regulations as “an act which actually kills or injures wildlife. Such act may include significant habitat modification or degradation where it actually kills or injures wildlife by significantly impairing essential behavioral patterns, including breeding, feeding, or sheltering” (50 CFR 17.3). However, under specified circumstances, the Service may issue permits that allow the take of federally listed fish and wildlife species, provided that the take that occurs is incidental to, but not the purpose of, an otherwise lawful activity.

Regulations governing permits for endangered and threatened species are at 50 CFR 17.22 and 17.32, respectively. Section 10(a)(1)(B) of the Act contains provisions for issuing such incidental take permits to non-Federal entities for the take of endangered and threatened species, provided the following criteria are met:

(1) The taking will be incidental;

(2) The applicants will minimize and mitigate the impact of such taking to the maximum extent practicable;

(3) The applicants will develop a proposed HCP and ensure that adequate funding for the HCP will be provided;

(4) The taking will not appreciably reduce the likelihood of the survival and recovery of the species in the wild; and

(5) The applicants will carry out any other measures that the Service may require as being necessary or appropriate for the purposes of the HCP.

The draft HCP addresses, and the applicant seeks incidental take authorization for, three animal species (two federally endangered and one federally threatened). The proposed permit would provide take authorization for all species identified in the draft HCP as covered species.

The following two federally listed as endangered species are proposed to be included as covered species in the proposed HCP:

Blunt-nosed leopard lizard (Gambelia sila)

San Joaquin kit fox (Vulpes macrotis mutica)

The following federally listed as threatened species is proposed to be included as a covered species in the proposed HCP:

Central California distinct population segment of the California tiger salamander (Ambystoma californiense)

Implementation of activities proposed for coverage under the proposed ITP includes the following general categories:

(1) Construction and operation activities within solar sites;

(2) Management and maintenance activities within movement corridors;

(3) Management activities within the areas designated for conservation (conservation sites), including monitoring and reporting actions;

(4) Activities associated with implementation of the conservation program specified in the draft HCP;

(5) Decommissioning; and

(6) Implementation of the conservation program.

Construction-related activities could include grading and compaction, trenching, paving of access roads, installation of solar arrays, meteorological stations, transmission lines, septic leech fields, fencing, and landscaping. Construction of solar facilities is anticipated to be completed over a 26-month period from the commencement of the initial development, and is anticipated to be complete by late 2016. Operation-related activities could include solar panel maintenance, on-site parking, operation of solar modules, inspection, repair of equipment, and operation of lighting. Typical activities associated with decommissioning of the solar energy facility include removal of all solar electric systems, buildings, cabling, electrical components; breaking up of concrete pads and foundations; removal of access roads; additional grading; and replacement of soil disturbed from decommissioning. Preservation/enhancement and conservation plan management activities could include vegetation control (i.e., grazing and mowing), fence installation, and special status species monitoring (i.e., surveys such as trapping, use of remote cameras, and spotlighting).

The proposed covered activities related to development, operations, maintenance and decommissioning of the solar sites would result in the permanent or temporary disturbance of up to 2,731 acres of existing land cover within the proposed 5,181-acre permit area. The proposed covered activities related to management of the conservation sites would also result in some disturbance of land cover, but overall these actions are expected to benefit the covered species. The solar site parcels encompass 2,731 acres, and conservation sites total 2,450 acres. The covered lands within the solar park area consist of low rolling hills, and are currently actively used as dry-farmed agricultural land. Surrounding land uses include open space, rangeland, active and inactive agricultural land, and some existing and potential urban development. The proposed HCP conservation strategy prescribes conditions for implementing each covered activity that avoid or minimize potential take of the covered species, and identifies mitigation for species impacts that cannot be avoided.

National Environmental Policy Act Compliance

Our proposed permit issuance decision triggers compliance with NEPA, which requires that environmental information be available to public officials and citizens before Federal decisions are made and before Federal actions are taken. We prepared the draft EA to inform the public of the proposed HCP; our proposed permit action; alternatives to that action; the environmental impacts of the alternatives, including the proposed action; and any irreversible commitments of resources; and to address comments received during early public scoping efforts.

Alternatives in the Draft Environmental Assessment

The Service is providing notice of the availability of our draft EA, which evaluates the impacts of the Proposed Action Alternative (including the HCP), and a No Action Alternative.

No Action Alternative: Under the No Action Alternative, we would not issue an incidental take permit to the applicant; the applicant would not implement an HCP and would avoid the take of the proposed covered species. The No Action Alternative would not address the applicant's underlying needs, would not contribute to meeting the State of California's renewable energy goals, and would not assist with the offset of carbon emissions. The 5,181 acres identified as the permit area would likely remain as agricultural land and undisturbed open space, and the 2,731 acres identified as conservation sites would not be permanently conserved. As a result, there would be no conservation benefit to covered species as a result of the Proposed Action. Agricultural activities, such as disking and harvesting, would likely continue, resulting in continued reduced habitat quality as a result of frequent vegetation removal and soil disturbance within the solar park area.

Proposed Action Alternative: Under the Proposed Action Alternative, we would issue an incidental take permit for the applicant's proposed HCP, which includes the covered activities and the conservation measures described in Background Information, and described with more detail in the applicant's proposed Wright Solar Park Habitat Conservation Plan.

Public Comments

We request data, comments, new information, or suggestions from the public, other concerned governmental agencies, the scientific community, Tribes, industry, or any other interested party on this notice. We particularly seek comments on the following:

(1) Biological information concerning the species;

(2) Relevant data concerning the species;

(3) Additional information concerning the range, distribution, population size, and population trends of the species;

(4) Current or planned activities in the subject area and their possible impacts on the species; and

(5) The presence of archeological sites, buildings and structures, historic events, sacred and traditional areas, and other historic preservation concerns, which are required to be considered in project planning by the National Historic Preservation Act; and

(6) Identification of any other environmental issues that should be considered with regard to the proposed transmission line and permit action.

You may submit your comments and materials by one of the methods listed in ADDRESSES. Comments and materials we receive, as well as supporting documentation we used in preparing the EA, will be available for public inspection by appointment, during normal business hours, at our office (see FOR FURTHER INFORMATION CONTACT).

Public Availability of Comments

Before including your address, phone number, or other personal identifying information in your comment, you should be aware that your entire comment—including your personal identifying information—might be made publicly available at any time. While you can ask us in your comment to withhold your personal identifying information from public review, we cannot guarantee that we will be able to do so.

Next Steps

Issuance of an incidental take permit is a Federal proposed action subject to compliance with NEPA. We will evaluate the application, associated documents, and any public comments we receive to determine whether the application meets the requirements of NEPA regulations and section 10(a) of the Act. If we determine that those requirements are met, we will issue a permit to the applicant for the incidental take of desert tortoise. We will make our final permit decision no sooner than 30 days after the public comment period closes.

Dated: January 7, 2015.
Paul B. McKim,
Acting Deputy Regional Director, Fish and Wildlife Service, Pacific Southwest Region, Sacramento, California.

[FR Doc. 2015-00390 Filed 1-12-15; 8:45 am]

BILLING CODE 4310-55-P